DEPARTMENT OF DEFENSE

Department of the Navy

[Docket ID USN-2022-HQ-0008]

Proposed Collection; Comment Request

AGENCY: Department of the Navy, Department of Defense (DoD).

ACTION: 60-Day information collection notice.

SUMMARY: In compliance with the Paperwork Reduction Act of 1995, the Department of the Navy announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 27, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Commanding General, Marine Corps Recruiting Command (G3), Officer Programs, 3280 Russell Road, Quantico, VA 22134-5103, ATTN: Captain David P. Foley, or contact Head, Officer Programs or Deputy, Officer Programs at 703-784-9449.

SUPPLEMENTARY INFORMATION:

Title; Associated Form; and OMB Number: Academic Certification for Marine Corps Officer Candidate Program; NAVMC Form 10469; OMB Control Number 0703-0011.

Needs and Uses: The Marine Corps Officer Selection Officer (OSO) will submit the completed original NAVMC Form 10469 with the officer applications for the Platoon Leaders' Class and Officer Candidate Course (OCC) Programs when the candidate has not yet completed the requirements for a degree. This form is to be completed by a school official of the applicant's college or university and verified by the OSO. Use of this form is the only accurate and specific method to determine an officer-candidate applicant's academic qualifications to serve as a Marine Corps Officer.

Affected Public: Individuals or households.

Annual Burden Hours: 875.

Number of Respondents: 3,500.

Responses per Respondent: 1.

Annual Responses: 3,500.

Average Burden per Response: 15 minutes.

Frequency: On occasion.

Dated: March 22, 2022.
Aaron T. Siegel,
Alternate OSD Federal Register Liaison Officer, Department of Defense.

[FR Doc. 2022-06440 Filed 3-25-22; 8:45 am]

BILLING CODE 5001-06-P